DEPARTMENT OF ENERGY

Federal Energy Regulatory Commission

[Project No. 14143-000]

West Maui Pumped Storage Water Supply, LLC; Notice of Preliminary Permit Application Accepted for Filing and Soliciting Comments, Motions To Intervene, and Competing Applications

On April 1, 2011, West Maui Pumped Storage Water Supply, LLC, filed an application for a preliminary permit, pursuant to section 4(f) of the Federal Power Act (FPA), proposing to study the feasibility of the West Maui Pumped Storage Project, which would use effluent water from the existing West Maui sewage treatment plant, located near Kaanapali, in Maui County, Hawaii. The sole purpose of a preliminary permit, if issued, is to grant the permit holder priority to file a license application during the permit term. A preliminary permit does not authorize the permit holder to perform any land-disturbing activities or otherwise enter upon lands or waters owned by others without the owners' express permission.

The proposed pumped storage project would consist of the following new and existing facilities: (1) A 90-foot-high, 3,800-foot-long lower dam and 50-acre reservoir; (2) a 21,000-foot-long, 57-inch-diameter penstock; (3) a 250-foot-high, 400-foot-long upper dam and 30-acre reservoir; (4) a turnout to supply project effluent water to an existing irrigation system; (5) a powerhouse with two 15-megawatt Francis type pump/generating units; (6) a 9-mile-long, 138-kilovolt transmission line; (7) a 22,000-foot-long road providing access to the penstock and upper dam; and (8) appurtenant facilities. The estimated annual generation of the West Maui Pumped Storage Project would be 110,000 megawatt-hours.

Applicant Contact: Bart M. O'Keeffe, West Maui Pumped Storage Water Supply, LLC, P.O. Box 1916, Discovery Bay, CA 94505; phone: (925) 634-1550.

FERC Contact: Jim Hastreiter; phone 503-552-2760; e-mail: james.hastreiter@ferc.gov.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http:// www.ferc.gov/docs-filing/elibrary.asp. Enter the docket number (P-14143) in the docket number field to access the document. For assistance, contact FERC Online Support.

Dated: May 20, 2011.
Kimberly D. Bose,
Secretary.

[FR Doc. 2011-13149 Filed 5-26-11; 8:45 am]

BILLING CODE 6717-01-P